DEPARTMENT OF TRANSPORTATION

Federal Aviation Administration

14 CFR Part 39

[Docket No. FAA-2008-0256; Directorate Identifier 2007-SW-01-AD; Amendment 39-15597; AD 2008-14-02]

RIN 2120-AA64

Airworthiness Directives; Agusta S.p.A. Model AB 139 and AW 139 Helicopters

AGENCY: Federal Aviation Administration (FAA), Department of Transportation (DOT).

ACTION: Final rule.

SUMMARY: We are adopting a new airworthiness directive (AD) for Agusta S.p.A. Model AB 139 and AW 139 helicopters. This AD results from mandatory continuing airworthiness information (MCAI) issued by the European Aviation Safety Agency (EASA), the Technical Agent for Italy, with which we have a bilateral agreement, which indicates that the Agusta AB 139's and AW 139's Fuselage Frame 5700 middle section is prone to fatigue damage. The actions are intended to detect cracks in the fuselage frame structure and to prevent structural failure in this area.

DATES: This AD becomes effective on August 14, 2008.

The incorporation by reference of certain publications is approved by the Director of the Federal Register as of August 14, 2008.

ADDRESSES: You may examine the AD docket on the Internet at http://regulations.gov or in person at the Docket Operations office, U.S. Department of Transportation, M-30, West Building Ground Floor, Room W12-140, 1200 New Jersey Avenue, SE., Washington, DC between 9 a.m. and 5 p.m. Monday through Friday, except Federal holidays.

You may get the service information identified in this AD from Agusta, 21017 Cascina Costa di Samarate (VA) Italy, Via Giovanni Agusta 520, telephone 39 (0331) 229111, fax 39 (0331) 229605-222595.

Examining the AD Docket: The AD docket contains the NPRM, the economic evaluation, any comments received, and other information. The street address and operating hours for the Docket Operations office (telephone (800) 647-5227) are in the ADDRESSES section of this AD. Comments will be available in the AD docket shortly after they are received.

FOR FURTHER INFORMATION CONTACT: Sharon Miles, Aviation Safety Engineer, FAA, Rotorcraft Directorate, Regulations and Guidance Group, Fort Worth, Texas 76193-0111, telephone (817) 222-5122, fax (817) 222-5961.

SUPPLEMENTARY INFORMATION:

Discussion

We issued a notice of proposed rulemaking (NPRM) to amend 14 CFR part 39 to include an AD that would apply to Agusta S.p.A. Model AB 139 and AW 139 helicopters. That NPRM was published in the Federal Register on March 7, 2008 (73 FR 12299). That NPRM proposed to require repetitive inspections of the fuselage frame structure for a crack, and if a crack is found, repairing the crack before further flight in accordance with an FAA-approved procedure. You may obtain further information by examining the MCAI and any related service information in the AD docket.

Comments

By publishing the NPRM, we gave the public an opportunity to participate in developing this AD. However, we received no comment on the NPRM or on our determination of the cost to the public. Therefore, based on our review and evaluation of the available data, we have determined that air safety and the public interest require adopting the AD as proposed except for some formatting changes. These changes will neither increase the economic burden on any operator nor increase the scope of this AD.

Relevant Service Information

Agusta S.p.A. has issued Bollettino Tecnico No. 139-018, Revision B, dated October 18, 2006. The actions described in the MCAI are intended to correct the same unsafe condition as that identified in the service information.

Differences Between This AD and the MCAI AD

This AD differs from the MCAI in that the MCAI states “When damage or cracks are found, before next flight, contact the TC Holder for further instructions.” This AD requires repairing the crack before further flight in accordance with an FAA-approved procedure if a crack is found. Also, this AD requires that the inspection be performed based on “hours time-in-service” rather than “flight hours,” as stated in the MCAI.

Costs of Compliance

We estimate that this AD will affect about 17 helicopters of U.S. registry. We also estimate that it will take about 1 work-hour per helicopter to comply with the initial and each subsequent recurring inspection required by this AD. The average labor rate is $80 per work-hour. Assuming that 3 recurring inspections will be performed on each of the affected helicopters every year after the initial inspection, and that 2 of the affected helicopters will require repairs to the fuselage middle frame section at $10,000 per repair during the service life of these helicopters, we estimate the cost of this AD as follows:

• Initial Inspection Costs: 1 × 80 × 17 = $1360.

• Subsequent Recurring Inspection Costs over the next 20 years: 1 × 3 × 20 × 80 × 17 = $81,600.

• Repair Costs: 2 × 10,000 = $20,000.

Based on these figures, we estimate the cost of this AD on U.S. operators to be $102,960, or $6,056 per helicopter.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

We determined that this AD will not have federalism implications under Executive Order 13132. This AD will not have a substantial direct effect on the States, on the relationship between the national government and the States, or on the distribution of power and responsibilities among the various levels of government.

Therefore, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends 39.13 by adding the following new AD:

2008-14-02 Agusta S.p.A.: Amendment 39-15597. Docket No. FAA-2008-0256; Directorate Identifier 2007-SW-01-AD.

Effective Date

(a) This airworthiness directive (AD) becomes effective on August 14, 2008.

Other Affected ADs

(b) None.

Applicability

(c) This AD applies to Agusta S.p.A. Model AB 139 and AW 139 helicopters, certificated in any category.

Reason

(d) This AD results from mandatory continuing airworthiness information (MCAI) issued by the European Aviation Safety Agency (EASA), the Technical Agent for Italy, with which we have a bilateral agreement, which indicates that the Agusta AB/AW 139's Fuselage Frame 5700 middle section is prone to fatigue damage. These fatigue cracks constitute an unsafe condition. The actions are intended to detect cracks in the fuselage frame structure and to prevent structural failure in this area.

Actions and Compliance

(e) Required as indicated, unless already done.

(1) Within the next 10 hours time-in-service (TIS), or upon accumulating 100 hours TIS since new, whichever occurs later, inspect the fuselage frame 5700 middle section in accordance with the Compliance Instructions, pargraphs 1. through 4., of Agusta Bollettino Tecnico No. 139-018, Revision B, dated October 18, 2006;

(2) Thereafter, at intervals not exceeding 100 hours TIS, repeat the inspection as required by paragraph (e)(1) of this AD.

(3) If a crack is found, before further flight, repair the crack in accordance with an FAA-approved procedure.

Differences Between This AD and the MCAI AD

(f) This AD differs from the MCAI as follows:

(1) The MCAI states “When damage or cracks are found, before next flight, contact the TC Holder for further instructions.” If a crack is found, this AD requires repairing the crack before further flight in accordance with an FAA-approved procedure.

(2) This AD requires that the inspection be performed based on “hours time-in-service” not “flight hours.”

Other Information

(g) Alternative Methods of Compliance (AMOCs): The Manager, Safety Management Group, FAA, FAA, ATTN: Sharon Miles, Aviation Safety Engineer, FAA, Rotorcraft Directorate, Regulations and Guidance Group, Fort Worth, Texas 76193-0111, telephone (817) 222-5122, fax (817) 222-5961, has the authority to approve AMOCs for this AD, if requested using the procedures found in 14 CFR 39.19.

Related Information

(h) European Aviation Safety Agency (EASA) Airworthiness Directive No. 2006-0357, dated November 29, 2006, contains related information.

Air Transport Association of America (ATA) Tracking Code

(i) ATA Code 5700: Fuselage frame middle section.

Material Incorporated by Reference

(j) You must use the specified portions of Agusta Bollettino Tecnico No. 139-018, Revision B, dated October 18, 2006, to do the actions required.

(1) The Director of the Federal Register approved the incorporation by reference of this service information under 5 U.S.C. 552(a) and 1 CFR part 51.

(2) For service information identified in this AD, contact Agusta, 21017 Cascina Costa di Samarate (VA) Italy, Via Giovanni Agusta 520, telephone 39 (0331) 229111, fax 39 (0331) 229605-222595.

(3) You may review copies at the FAA, Office of the Regional Counsel, Southwest Region, 2601 Meacham Blvd., Fort Worth, Texas 76193; or at the National Archives and Records Administration (NARA). For information on the availability of this material at NARA, call (202) 741-6030, or go to: http://www.archives.gov/federal-register/cfr/ibr-locations.html.

Issued in Fort Worth, Texas on June 19, 2008.
Judy Carl,
Acting Manager, Rotorcraft Directorate, Aircraft Certification Service.

[FR Doc. E8-14720 Filed 7-9-08; 8:45 am]

BILLING CODE 4910-13-P